DEPARTMENT OF COMMERCE

National Oceanic and Atmospheric Administration

RIN 0648-XE348

Endangered Species; File No. 17225

AGENCY: National Marine Fisheries Service (NMFS), National Oceanic and Atmospheric Administration (NOAA), Commerce.

ACTION: Notice; receipt of application.

SUMMARY: Notice is hereby given that the NMFS Northeast Fisheries Science Center [Responsible Party: William Karp], 166 Water Street, Woods Hole, MA 02543, has applied in due form for a permit to take Atlantic sturgeon (Acipenser oxyrinchus oxyrinchus), loggerhead (Caretta caretta), Kemp's ridley (Lepidochelys kempii), green (Chelonia mydas), hawksbill (Eretmochelys imbricata) and leatherback (Dermochelys coraicea) sea turtles for purposes of scientific research.

DATES: Written, telefaxed, or email comments must be received on or before February 16, 2016.

ADDRESSES: The application and related documents are available for review by selecting “Records Open for Public Comment” from the “Features” box on the Applications and Permits for Protected Species (APPS) home page, https://apps.nmfs.noaa.gov, and then selecting File No. 17225 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Malcolm Mohead or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to conduct research on sea turtles and Atlantic sturgeon in the U.S. Atlantic exclusive economic zone from Massachusetts to Georgia. The purpose of the research is to evaluate bycatch reduction devices for commercial fishing gear to mitigate sea turtle and sturgeon interactions under two projects: Project A (Northern region) and Project B (Southern region). For Project A, up to 223 Atlantic sturgeon, 51 loggerhead, six Kemp's ridley, six green, and six leatherback sea turtles could be targeted for research sampling over the course of the permit that have been legally bycaught in a Federal commercial fishery. For Project B, researchers would capture by experimental or control trawls or gillnets up to 204 Atlantic sturgeon, 148 loggerhead, 62 Kemp's ridley, 10 green, eight leatherback and eight hawksbill sea turtles over the course of the permit. All animals would be measured, weighed, tissue sampled, passive integrated transponder (PIT) and/or flipper tagged, and photographed before release. In addition, up to six sea turtles (any species) and six Atlantic sturgeon may accidentally die or be harmed as a result of research activities over the life of the permit.

Dated: December 22, 2015.
Julia Harrison,
Chief, Permits and Conservation Division, Office of Protected Resources, National Marine Fisheries Service.

[FR Doc. 2016-00724 Filed 1-14-16; 8:45 am]

BILLING CODE 3510-22-P